ENVIRONMENTAL PROTECTION AGENCY

[FRL OP-OFA-037]

Environmental Impact Statements; Notice of Availability

Responsible Agency: Office of Federal Activities, General Information 202-564-5632 or https://www.epa.gov/nepa.

Weekly receipt of Environmental Impact Statements (EIS)

Filed September 19, 2022 10 a.m. EST Through September 26, 2022 10 a.m. EST

Pursuant to 40 CFR 1506.9.

Notice: Section 309(a) of the Clean Air Act requires that EPA make public its comments on EISs issued by other Federal agencies. EPA's comment letters on EISs are available at: https://cdxapps.epa.gov/cdx-enepa-II/public/action/eis/search.

EIS No. 20220138, Final, BLM, ID, Cedar Fields Proposed Plan Amendment/Final Environmental Impact Statement for the Monument RMP, Review Period Ends: 10/31/2022, Contact: Terrell Dobis 208-735-2075.

EIS No. 20220139, Draft Supplement, USCG, MARAD, TX, Texas Gulflink Deepwater Port License Application, Comment Period Ends: 11/14/2022, Contact: Patrick Clark 202-372-1358.

Dated: September 26, 2022.
Cindy S. Barger,
Director, NEPA Compliance Division, Office of Federal Activities.

[FR Doc. 2022-21278 Filed 9-29-22; 8:45 am]

BILLING CODE 6560-50-P